DEPARTMENT OF LABOR

Employment and Training Administration

[TA-W-41,288 & NAFTA-6104]

International Truck and Engine Corp., a Subsidiary of Navistar International Corp., Springfield, Ohio; Notice of Negative Determination Regarding Application for Reconsideration

On May 9, 2003, the Department issued an Affirmative Determination Regarding Application for Reconsideration for the workers and former workers of the subject firm. The notice was published in the Federal Register on May 29, 2003 (68 FR 32124).

The Department initially denied trade adjustment assistance to workers of International Truck and Engine Corporation, a subsidiary of Navistar International Corporation, Springfield, Ohio because the “contributed importantly” group eligibility requirement of section 222(3) and section 250 of the Trade Act of 1974 were not met. The TAA investigation revealed that criterion (3) was not met; the company did not import medium, heavy or severe service trucks and aggregate U.S. imports of medium, heavy, and severe service trucks decreased during the relevant period. The NAFTA-TAA petition for the same worker group was denied because criteria (3) and (4) of the group eligibility requirements in paragraph (a)(1) of section 250 of the Trade Act, as amended, were not met. The subject firm did not import medium, heavy, or severe service trucks, nor was production of medium, heavy, or severe service trucks shifted from the workers' firm to Mexico or Canada.

On reconsideration, as requested by the International Union, United Automobile, Aerospace & Agricultural Workers of America—UAW, Region 2B, and Local Unions 402 and 658, the Department considered several allegations and supporting documentation provided by the union to determine if an error had been made in the original negative determination.

The first allegation concerns a shift in production of final cab assembly from the Springfield plant to an affiliated plant in Escobedo, Mexico. To support this allegation, the union provided testimony from two employees who were aware of “knockdown cab assemblies” being shipped to Mexico for final welding.

In response to this allegation, a company official confirmed that the company has cab subassemblies shipped to Mexico from Springfield. These cabs, used in the production of NGV (New Generation Vehicles) that replaced the company's legacy line of trucks, can be considered directly competitive with those previously welded at the subject facility. However, although the welding of cabs for final truck production at another domestic facility was shifted from Springfield to Mexico, the quantity of cab welding that shifted was and is extremely small relative to cab welding performed at the subject facility, and thus constituted an insignificant portion of overall production at the subject facility.

The union also contends that the Springfield facility and its affiliate in Mexico produce like or directly competitive trucks, and that this fact might be used in support of petitioning workers meeting eligibility requirements for TAA and NAFTA-TAA. To support this claim, the union provides a statement from a company employee who witnessed similar trucks being produced at the Mexican plant, and a set of production schedules that show similar truck lines (4200, 4300, 4400 medium duty trucks) being produced both in Mexico and Springfield.

When contacted in regard to this allegation, the company official confirmed that the Mexican and Springfield plants produce similar trucks. However, the Mexican plant has always produced trucks exclusively for the Mexican market, and its production volume was and is determined exclusively by local consumer demand.

Finally, the union alleged that trucks competitive with those produced in Springfield were imported to the U.S. from Mexico. To support this allegation, they provided a multi-page inventory of truck orders that indicate a large number of trucks sent from the Escobedo facility to the U.S.

A copy of this import inventory was sent to a company official for comment. In his response, it was revealed that the company did in fact import competitive trucks for a brief period in the fall of 2003, as a pre-emptive measure in preparation for a potential strike. The official clarified that the company wanted to make sure that they could meet production orders in the event of a work stoppage and that the Mexican production occurred between September 11 and November 26 of 2002, and that there was a work stoppage at the Springfield facility between October 18 and November 11, 2002. All employees were retained following this stoppage. Further, the Mexican production for this contingency commenced after the relevant period of the investigation. In conclusion the company official confirmed that which was established in the initial investigation; no production was imported by the company to the U.S. in 2000, 2001, and in January through July of 2002.

Conclusion

After review of the application and investigative findings, I conclude that there has been no error or misinterpretation of the law or of the facts which would justify reconsideration of the Department of Labor's prior decisions. Accordingly, the application is denied.

Signed at Washington, DC, this 13th day of June, 2003.
Elliott S. Kushner,
Certifying Officer, Division of Trade Adjustment Assistance.

[FR Doc. 03-16887 Filed 7-3-03; 8:45 am]

BILLING CODE 4510-30-P